DEPARTMENT OF TRANSPORTATION

Federal Aviation Administration

Notice of Intent To Rule on Application To Impose and Use the Revenue From a Passenger Facility Charge (PFC) at Detroit Metropolitan Wayne County Airport, Detroit, MI

AGENCY: Federal Aviation Administration (FAA), DOT.

ACTION: Notice of intent to rule on application.

SUMMARY: The FAA proposes to rule and invites public comment on the application to impose and use the revenue from a PFC at Detroit Metropolitan Wayne County Airport under the provisions of the Aviation Safety and Capacity Expansion Act of 1990 (Title IX of the Omnibus Budget Reconciliation Act of 1990) (Public Law 101-508) and Part 158 of the Federal Aviation Regulations (14 CFR Part 158).

DATE: Comments must be received on or before March 3, 2000.

ADDRESSES: Comments on this application may be mailed or delivered in triplicate to the FAA at the following address: Federal Aviation Administration, Detroit Airports District Office, Willow Run Airport, East, 8820 Beck Road, Belleville, Michigan 48111.

In addition, one copy of any comments submitted to the FAA must be mailed or delivered to Mr. David M. Katz, Director of Airports of the Detroit Metropolitan Wayne County Airport at the following address: Wayne County Division of Airports, Detroit Metropolitan Wayne County Airport L.C. Smith Terminal-Mezzanine, Detroit, Michigan 48242.

Air carriers and foreign air carriers may submit copies of written comments previously provided to the Charter County of Wayne, Michigan under section 158.23 of Part 158.

FOR FURTHER INFORMATION CONTACT: Mr. Robert L. Conrad, Program Manager, Federal Aviation Administration, Detroit Airports District Office, Willow Run Airport, East, 8820 Beck Road, Belleville, Michigan 48111 (734-487-7295). The application may be reviewed in person at this same location.

SUPPLEMENTARY INFORMATION: The FAA proposes to rule and invites public comment on the application to impose and use the revenue from a PFC at Detroit Metropolitan Wayne County Airport under the provisions of the Aviation Safety and Capacity Expansion Act of 1990 (Title IX of the Omnibus Budget Reconciliation Act of 1990) (Public Law 101-508) and Part 158 of the Federal Aviation Regulations (14 CFR Part 158).

On December 7, 1999 the FAA determined that the application to impose and use the revenue from a PFC submitted by Charter County of Wayne, Michigan was substantially complete within the requirements of section 158.25 of Part 158. The FAA will approve or disapprove the application, in whole or in part, no later than February 16, 2000.

The following is a brief overview of the application

PFC Application No.: 00-04-C-00-DTW.

Level of the proposed PFC: $3.00.

Proposed charge effective date: October 1, 2029.

Proposed charge expiration date: October 1, 2031.

Total estimated PFC revenue: $203,207,000.00.

Brief description of proposed projects: Runway 21C/3C Keel Section Replacement, Runway 4/22 Design and Construction, Rebuild Outfall Structures at Ponds 3 and 4, 21 C Remote Primary Deicing Pad, Grade/Pave Taxiway “K” Islands. Class or classes of air carriers which the pubic agency has requested not be required to collect PFCs: The County has requested that all air carriers or foreign air carriers which enplane fewer than 500 passengers each year be exempt from collecting a PFC.

Any person may inspect the application in person at the FAA office listed above under FOR FURTHER INFORMATION CONTACT.

In addition, any person may, upon request, inspect the application, notice, and other documents germane to the application in person at the Wayne County Division of Airports, Detroit Metropolitan Wayne County Airport L.C. Smith Terminal-Mezzanine, Detroit, Michigan.

Issued in Des Plaines, Illinois on January 13, 2000.
Benito De Leon,
Manager, Planning and Programming Branch, Airports Division, Great Lakes Region.

[FR Doc. 00-2265 Filed 2-1-00; 8:45 am]

BILLING CODE 4910-13-M